SMALL BUSINESS ADMINISTRATION

Public Forum: SBA Guaranteed Business Loans to Poultry Farmers

AGENCY: U.S. Small Business Administration.

ACTION: Notice of meeting.

SUMMARY: The Small Business Administration (SBA) Office of Capital Access will hold two public forums with members of the general public. The purpose of these meetings is to better understand the use of SBA guaranteed loans by small farmers in the poultry industry. The first public forum will be held in Gainesville, Georgia and the second public forum will be held in Little Rock, Arkansas.

DATES: The Gainesville, Georgia public forum will take place on August 16, 2018, from 10:00 a.m. to 11:30 a.m. Eastern Daylight Time. The Little Rock, Arkansas public forum will take place on August 22, 2018, from 9:30 a.m. to 11:00 a.m. Central Daylight Time. There will be no telephone call-in for either meeting.

ADDRESSES: The Gainesville, Georgia public forum meeting will be held at the Nopone Road Recreation Center, 4175 Nopone Rd, Gainesville, GA 30506.

The Little Rock, Arkansas public forum meeting will be held at University of Arkansas System Division of Agriculture Cooperative Extension Office, 2301 S University Ave., Little Rock, AR 72204.

Please note the registration instructions under the SUPPLEMENTARY INFORMATION section of this notice.

FOR FURTHER INFORMATION CONTACT: For Gainesville, Georgia, contact Terri Denison, SBA District Director, Georgia District Office (404) 331-0100 or Terri.Denison@sba.gov.

For Little Rock, Arkansas, contact Edward Haddock, SBA District Director, Arkansas District Office (501) 324-7379 or edward.haddock@sba.gov.

SUPPLEMENTARY INFORMATION: The U.S. Small Business Administration (SBA) is reviewing its policies and procedures regarding SBA-guaranteed loans made to small business farmers in the poultry industry. SBA is seeking to better understand the credit needs of small business poultry farmers, their business operations, and their relationship to integrators in the poultry industry.

This is an opportunity for members of the public to provide input in person regarding financing of small poultry farms. Please note that the purpose of the forum is to hear from members of the public. No policy recommendations or views will be offered by SBA at this forum.

All interested parties must register in advance to attend. Attendance at each public forum is limited to the first 50 individuals who register per location.

Participants interested in the Gainesville, Georgia public forum may register at: https://www.eventbrite.com/e/us-small-business-administration-public-forum-tickets-48696832537.

Participants interested in the Little Rock, Arkansas public forum may register at: https://www.eventbrite.com/e/us-small-business-administration-public-forum-tickets-48617799146.

Dated: August 8, 2018.
Stephen W. Kucharski,
Acting Associate Administrator, Office of Capital Access.

[FR Doc. 2018-17347 Filed 8-10-18; 8:45 am]

BILLING CODE 8025-01-P